FEDERAL MARITIME COMMISSION

Notice of Agreement(s) Filed

The Commission hereby gives notice of the filing of the following agreement(s) under the Shipping Act of 1984. Interested parties can review or obtain copies of agreements at the Washington, DC, offices of the Commission, 800 North Capitol Street, NW., Room 940. Interested parties may submit comments on an agreement to the Secretary, Federal Maritime Commission, Washington, DC 20573, within 10 days of the date this notice appears in the Federal Register.

Agreement No.: 011223-028.

Title: Transpacific Stabilization Agreement.

Parties: APL Co. Pte. Ltd. and American President Lines, Ltd. (acting as one party); A.P. Moller-Maersk A/S trading under the name of Maersk Sealand; CMA CGM, S.A.; COSCO Container Lines Ltd.; Evergreen Marine Corp. (Taiwan) Ltd.; Hanjin Shipping Co., Ltd.; Hapag-Lloyd Container Line GmbH; Hyundai Merchant Marine Co., Ltd.; Kawasaki Kisen Kaisha, Ltd.; Mitsui O.S.K. Lines, Ltd.; Nippon Yusen Kaisha; Orient Overseas Container Line Limited; P&O Nedlloyd B.V. and P&O Nedlloyd Limited (acting as one party); and Yangming Marine Transport Corp.

Synopsis: The amendment deletes the Indian Subcontinent from the geographic scope of the agreement and revises various communications and meeting processes under the agreement.

Agreement No.: 201147.

Title: Broward/Chiquita Lease and Operating Agreement.

Parties: Broward County (Florida); Chiquita Brands Company, North America.

Synopsis: The agreement provides for the lease of property to be used as a marine terminal. The term of the lease is through September 23, 2013.

Agreement No.: 201148.

Title: Broward/Crowley Marine Terminal Lease Agreement.

Parties: Broward County (Florida); Crowley Liner Services, Inc.

Synopsis: The agreement is a restatement of a previous agreement and provides for the lease of property to be used as a marine terminal. The term of the lease is through January 21, 2010.

Dated: September 26, 2003.
By Order of the Federal Maritime Commission.
Bryant L. VanBrakle,
Secretary.

[FR Doc. 03-24897 Filed 9-30-03; 8:45 am]

BILLING CODE 6730-01-P